DEPARTMENT OF ENERGY

Federal Energy Regulatory Commission

[Docket Nos. CP03-302-000, CP03-303-000, CP03-304-000, PF03-1-000 and CP03-301-000]

Cheyenne Plains Gas Pipeline Company, LLC and Colorado Interstate Gas Company; Notice of Availability of the Final Environmental Impact Statement for the Proposed Cheyenne Plains Pipeline Project

February 20, 2004.

The staff of the Federal Energy Regulatory Commission (FERC or Commission) has prepared the final environmental impact statement (EIS) on the natural gas pipeline facilities proposed by Cheyenne Plains Gas Pipeline Company, LLC (CPG) and Colorado Interstate Gas Company (CIG) in the above-referenced dockets. The proposed project, referred to as the Cheyenne Plains Pipeline Project, is located in various counties in Colorado and Kansas.

The final EIS was prepared to satisfy the requirements of the National Environmental Policy Act (NEPA). The staff concludes that, if the project is constructed as modified and with the appropriate mitigation measures as recommended, it would have limited adverse environmental impact. The information in the final EIS, along with the information contained in the Commission's Preliminary Determination on Non-Environmental Issues for the project, will be considered by the Commission when making a final decision on the project.

The U.S. Department of Agriculture, Forest Service (FS) is participating as a cooperating agency in the preparation of the final EIS because the FS will be issuing its own Record of Decision (ROD) on whether or not to issue Special Use Authorizations for the portion of the pipeline that crosses the Pawnee National Grassland (PNG). After issuance of the FS' ROD, there is a 45-day period to appeal the FS' decision under Title 36 Code of Federal Regulations (CFR) Part 215, Notice, Comment and Appeal Procedures for National Forest System Projects and Activities. In accordance with Title 36 CFR 215.13, only individuals and organizations who submitted substantive written or oral comments during the comment period on the draft EIS for the proposed Cheyenne Plains Pipeline Project (and specifically addressed the portion on the PNG) may appeal the Regional Forester's decision as documented in the ROD.

The U.S. Fish and Wildlife Service (FWS) is also a cooperating agency in the preparation of the final EIS because the project has the potential to affect endangered species, migratory birds, wildlife, and habitat.

The final EIS addresses the potential environmental effects of the construction and operation of the following facilities:

• A total of 379.8 miles of 36-inch-diameter mainline, with 189.0 miles in Colorado (Weld, Morgan, Washington, Yuma, and Kit Carson Counties) and 190.8 miles in Kansas (Sherman, Wallace, Logan, Scott, Lane, Finney, Hodgeman, Ford, and Kiowa Counties);

• 0.2 mile of 20-inch-diameter lateral ¹ (Sand Dune Lateral) in Kiowa County, Kansas;

¹ A lateral is typically a smaller diameter pipeline that takes gas from the main system to deliver it to a customer, local distribution system, or another interstate transmission system.

• 4.2 miles of 30-inch-diameter lateral (South Rattlesnake Creek Lateral) in Kiowa County, Kansas;

• 3.0 miles of 8-inch-diameter lateral (Cossell Lake Lateral) in Kiowa County, Kansas;

• One 2,443-horsepower (hp) jumper compressor installed within CIG's existing compressor station located at its Cheyenne Hub in Weld County, Colorado;

• Two 10,310-hp turbine compressors installed in a new CPG compressor station at the Cheyenne Hub;

• Nine new interconnects ² with existing pipeline systems. These interconnects would include metering facilities and would consist of two receipt points, one each with CIG and Wyoming Interstate Company at the Cheyenne Hub in Weld County, Colorado, and seven delivery points, one with Kinder Morgan Interstate Pipeline Company in Scott County, Kansas, one with Natural Gas Pipeline Company of America in Ford County, Kansas, and one each with Southern Star Central Gas Pipeline, LLC, ANR Pipeline Company, Northern Natural Gas Company, Panhandle Eastern Pipe Line Company, and Kansas Gas Service Company in Kiowa County, Kansas;

² An interconnect is a connection to another pipeline system that is used to deliver or receive gas. Metering and regulating facilities would typically be included at each interconnect.

• Two new gas treatment plants, each consisting of an amine and glycol processing train, one at the Cheyenne Hub and the other at the Southern Star interconnect;

• 32 mainline valves (MLVs), consisting of 1 at the Cheyenne Hub, 4 at interconnects in Kiowa County, Kansas, and 27 located independently along the mainline and laterals; and

• Two pig ³ launchers, two pig receivers, and five pig launchers and receivers, each collocated with new MLV sites.

³ A pig is an internal tool that can be used to clean and dry a pipeline and/or to inspect it for damage or corrosion.

The final EIS has been placed in the public files of the FERC and is available for public inspection in the Public Reference Room 2A or call (202) 502-8371.

A limited number of copies of the final EIS are available from the Public Reference Room. In addition, copies of the final EIS have been mailed to Federal, state, and local agencies; elected officials; Native American tribes; newspapers; public libraries; television and radio stations; intervenors to the FERC's proceeding; and individuals who provided scoping comments, commented on the draft EIS, or requested the final EIS.

Additional information about the project is available from the Commission's Office of External Affairs, at 1-866-208 FERC (3372) or on the FERC Internet website (http://www.ferc.gov). Using the “eLibrary”, select “General Search” from the eLibrary menu, enter the selected date range and “Docket Number”, and follow the instructions. You may also search using the phrase “Cheyenne Plains” in the “Text Search” field. For assistance with access to eLibrary, the helpline can be reached at 1-866-208-3676, TTY (202) 502-8659, or at FERCOnlineSupport@ferc.gov.

In addition, the Commission now offers a free service called eSubscription that allows you to keep track of all formal issuances and submittals in specific dockets. This can reduce the amount of time you spend researching proceedings by automatically providing you with notification of these filings, document summaries, and direct links to the documents. To register for this service, go to http://www.ferc.gov/ esubscribenow.htm.

Information concerning the involvement of the FS is available from John Oppenlander at (970) 346-5005. Information concerning the involvement of the FWS is available from Dan Mulhern at (785) 539-3474 (ext. 109).

Magalie R. Salas,
Secretary.

[FR Doc. E4-412 Filed 2-25-04; 8:45 am]

BILLING CODE 6717-01-P